DEPARTMENT OF ENERGY

Federal Energy Regulatory Commission

Combined Notice of Filings #1

Take notice that the Commission received the following electric rate filings:

Docket Numbers: ER10-2124-007; ER10-2125-008; ER10-2127-006; ER10-2128-007; ER10-2129-006; ER10-2130-007; ER10-2131-007; ER10-2132-007; ER10-2133-007; ER10-2134-005; ER10-2135-006; ER10-2136-006; ER10-2137-007; ER10-2138-007; ER10-2139-007; ER10-2140-007; ER10-2141-007; ER10-2764-007; ER11-3872-008; ER11-4044-008; ER11-4046-007; ER12-161-006; ER12-164-006; ER12-645-008.

Applicants: Spring Canyon Energy LLC, Judith Gap Energy LLC, Invenergy TN LLC, Wolverine Creek Energy LLC, Grays Harbor Energy LLC, Forward Energy LLC, Grand Ridge Energy LLC, Grand Ridge Energy II LLC, Grand Ridge Energy III LLC, Grand Ridge Energy IV LLC, Grand Ridge Energy V LLC, Willow Creek Energy LLC, Sheldon Energy LLC, Hardee Power Partners Limited, Spindle Hill Energy LLC, Invenergy Cannon Falls LLC, Beech Ridge Energy LLC, Vantage Wind Energy LLC, Stony Creek Energy LLC, Gratiot County Wind II LLC, Gratiot County Wind LLC, Bishop Hill Energy LLC, Bishop Hill Energy III LLC, California Ridge Wind Energy LLC.

Description: Notification of Change in Facts of Spring Canyon Energy LLC, et al.

Filed Date: 2/6/14.

Accession Number: 20140206-5076.

Comments Due: 5 p.m. ET 2/27/14.

Docket Numbers: ER10-3301-002; ER10-2757-002; ER10-2756-002.

Applicants: Arlington Valley, LLC, Griffith Energy LLC, GWF Energy LLC.

Description: Supplement to June 28, 2013 Triennial Market Power Update for the Southwest Region of the GWF Energy LLC.

Filed Date: 1/22/14.

Accession Number: 20140122-5228.

Comments Due: 5 p.m. ET 2/12/14.

Docket Numbers: ER10-3301-003; ER10-2757-003; ER10-2756-003.

Applicants: Arlington Valley, LLC, Griffith Energy LLC, GWF Energy LLC.

Description: Notice of Change in Status under Market Based Authority, et al. of the Star West Companies.

Filed Date: 1/22/14.

Accession Number: 20140122-5246.

Comments Due: 5 p.m. ET 2/12/14.

Docket Numbers: ER11-2790-005.

Applicants: Midcontinent Independent System Operator, Inc.

Description: 2014-02-06_SA 2005_Ameren-Hoosier WDS Agreement to be effective 3/30/2011.

Filed Date: 2/6/14.

Accession Number: 20140206-5012.

Comments Due: 5 p.m. ET 2/27/14.

Docket Numbers: ER14-711-001.

Applicants: Public Service Company of Colorado.

Description: 2014-2-6_325-PSCo-Appendix 1 thru 3 Filing to be effective 12/1/2013.

Filed Date: 2/6/14.

Accession Number: 20140206-5045.

Comments Due: 5 p.m. ET 2/27/14.

Docket Numbers: ER14-1101-001.

Applicants: Southwest Power Pool, Inc.

Description: 2638 Prairie Wind Transmission and OG&E Inter. Agr—Errata to be effective 12/31/9998.

Filed Date: 2/5/14.

Accession Number: 20140205-5104.

Comments Due: 5 p.m. ET 2/26/14.

Docket Numbers: ER14-1173-001.

Applicants: Duke Energy Carolinas, LLC.

Description: NCEMC 2nd Amended NITSA OATT SA No. 210 to be effective 1/1/2014.

Filed Date: 1/30/14.

Accession Number: 20140130-5255.

Comments Due: 5 p.m. ET 2/20/14.

Docket Numbers: ER14-1256-000.

Applicants: Lackawanna Energy Center LLC.

Description: Request of Lackawanna Energy Center LLC for Limited Waiver of the PJM Interconnection, L.L.C. Open Access Transmission Tariff and Request for Expedited Action.

Filed Date: 2/4/14.

Accession Number: 20140204-5087.

Comments Due: 5 p.m. ET 2/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2014.
Nathaniel J. Davis, Sr.,
Deputy Secretary.

[FR Doc. 2014-03193 Filed 2-13-14; 8:45 am]

BILLING CODE 6717-01-P